DEPARTMENT OF THE TREASURY

Submission for OMB Review; Comment Request

May 8, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 17, 2002 to be assured of consideration.

Financial Crimes Enforcement Network

OMB Number: 1506-0012.

Form Number: TD F 90-22.53.

Type of Review: Extension.

Title: Designation of Exempt Person Form.

Description: This form is used by depository institutions when designating their eligible customers as exempt from the requirement to report transactions in currency in excess of $10,000.

Respondents: Business or other for-profit.

Estimated Number of Respondent/Recordkeepers: 5,000.

Estimated Burden Hours Per Respondent/Recordkeeper: 1 hour, 10 minutes.

Frequency of Response: Biennially, Other (once per initial exemption).

Estimated Total Reporting/Recordkeeping Burden: 30,000 hours.

Clearance Officer: Steve Rudzinski, Financial Crime Enforcement Network (FinCEN), P.O. Box 39, Vienna, VA 22183, 767-2825.

OMB Reviewer: Alexander T. Hunt (202) 395-7860, Office of Management and Budget, Room 10202, New Executive Office Building, Washington, DC 20503.

Lois K. Holland,
Departmental Reports Management Officer.

[FR Doc. 02-12208 Filed 5-15-02; 8:45 am]

BILLING CODE 4810-02-P